DEPARTMENT OF HEALTH AND HUMAN SERVICES

National Institutes of Health

National Institute of Environmental Health Sciences; Notice of Partially Closed Meeting

Pursuant to section 1009 of the Federal Advisory Committee Act, as amended, notice is hereby given of a meeting of the National Advisory Environmental Health Sciences Council.

The meeting will be partially open to the public as indicated below, with attendance limited to space available. Individuals who plan to attend as well as those who need special assistance, such as sign language interpretation or other reasonable accommodations, must notify the Contact Person listed below in advance of the meeting. The open session will be videocast and can be accessed from the NIH Videocasting and Podcasting website (https://www.niehs.nih.gov/news/webcasts).

The meeting will be closed to the public in accordance with the provisions set forth in sections 552b(c)(4) and 552b(c)(6), Title 5 U.S.C., as amended. The intramural programs and projects as well as the grant applications and/or contract proposals and the discussions could disclose confidential trade secrets or commercial property such as patentable material, and personal information concerning individuals associated with the grant applications and/or contract proposals, the disclosure of which would constitute a clearly unwarranted invasion of personal privacy.

Name of Committee: National Advisory Environmental Health Sciences Council.

Date: March 18, 2026.

Open: 9:00 a.m. to 11:00 a.m.

Agenda: Call to Order and Opening Remarks, Review of Confidentiality and Conflict of Interest, Consideration of Previous Meeting Minutes, Report of the NIEHS Director, and Report of the DERT Director.

Address: NIEHS, 111 TW Alexander Drive, Research Triangle Park, NC 27709.

Meeting Format: Virtual.

Open: 11:15 a.m. to 12:00 p.m.

Agenda: NIEHS Scientific Concept 1.

Address: NIEHS, 111 TW Alexander Drive, Research Triangle Park, NC 27709.

Meeting Format: Virtual.

Open: 12:45 p.m. to 2:15 p.m.

Agenda: NIEHS Scientific Concepts 2 and 3.

Address: NIEHS, 111 TW Alexander Drive, Research Triangle Park, NC 27709.

Meeting Format: Virtual.

Closed: 2:45 p.m. to 5:00 p.m.

Agenda: To review and evaluate consideration of Intramural BSC Reports, Review of Confidentiality and Conflict of Interest, and Consideration of Grant Applications.

Address: NIEHS, 111 TW Alexander Drive, Research Triangle Park, NC 27709.

Meeting Format: Virtual.

Contact Person: David M. Balshaw, Ph.D., Director and Acting Chief, Scientific Review Branch, Division of Extramural Research and Training, National Institute of Environmental Health Sciences, P.O. Box 12233, MD EC-27, Research Triangle Park, NC 27709-2233, 984-287-3234, balshaw@niehs.nih.gov.

Registration is not required to attend the open portion of this meeting.

Any interested person may file written comments with the committee by forwarding the statement to the Contact Persons listed on this notice. The statement should include the name, address, telephone number and when applicable, the business or professional affiliation of the interested person.

Any member of the public interested in presenting oral comments to the committee may notify the Contact Person listed on this notice at least 10 days in advance of the meeting. Interested individuals and representatives of an organization may submit a letter of intent, a brief description of the organization represented and a short description of the oral presentation. Only one representative of an organization may be allowed to present oral comments and presentations may be limited to five minutes. Both printed and electronic copies are requested for the record. In addition, any interested person may file written comments with the committee by forwarding the statement to the Contact Person listed on this notice. The statement should include the name, address, telephone number and when applicable, the business or professional affiliation of the interested person.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: December 16, 2025.
Denise M. Santeufemio,
Supervisory Program Analyst, Office of Federal Advisory Committee Policy.

[FR Doc. 2025-23499 Filed 12-19-25; 8:45 am]

BILLING CODE 4140-01-P